DEPARTMENT OF AGRICULTURE

Agricultural Research Service

National Agricultural Library; Notice of Intent To Seek Approval To Collect Information

AGENCY: Agricultural Research Service, USDA

ACTION: Notice and request for comments.

SUMMARY: In accordance with the Paperwork Reduction Act of 1995 (Pub. L. 104-13) and Office of Management and Budget (OMB) regulations at 5 CFR Part 1320 (60 FR 44978, August 29, 1995), this notice announces the National Agricultural Library's intent to request approval for a new information collection from the Technical Services Division to obtain suggestions for additions/changes to the NAL Agricultural Thesaurus.

DATES: Comments on this notice must be received by February 27, 2003 to be assured of consideration.

ADDRESSES: Address all comments concerning this notice to Lori Finch, Thesaurus Specialist, 10301 Baltimore Ave., Room 011; Beltsville, MD 20705. Submit electronic comments to lfinch@nal.usda.gov.

FOR FURTHER INFORMATION CONTACT: Lori Finch, Thesaurus Specialist, Phone: 301-504-6853; Fax: 301-504-5213.

SUPPLEMENTARY INFORMATION: Title: Suggestions for Changes to NAL Agricultural Thesaurus Form.

OMB Number: Not yet assigned.

Expiration Date: N/A.

Type of Request: Approval for new data collection.

Abstract: The collection of suggestions for changes to the NAL Agricultural Thesaurus will provide Web site users with the opportunity to suggest the addition of new terminology of interest to them. The Thesaurus Staff will review each suggestion via a Proposal Review Board and provide feedback to the user. This form will provide the NAL Thesaurus Staff with valuable suggestions to improve the content and organization of the NAL Agricultural Thesaurus. It is hoped that an online form that is readily available to users who search the thesaurus would encourage users to submit their ideas and needs for terminology.

The Suggestions for Changes to NAL Agricultural Thesaurus Form is a document composed of 8 inquiry components allowing users to submit suggestions for changes to the thesaurus. Information to be submitted includes, user contact information (name, affiliation, email, phone), the proposed changes to the thesaurus, the field of study or subject area of the term being proposed, justification for the change, and any reference material which the user would like to provide as background information. Name, email and phone components are mandatory.

Estimate of Burden: Public reporting burden for this collection of information is estimated to average 10 minutes per response.

Respondents: The agricultural community, USDA personnel and their cooperators, and including public and private users or providers of agricultural information.

Estimated Number of Respondents: 250 per year.

Estimated Total Annual Burden on Respondents: 2500 minutes.

Comments: Comments are invited on (a) whether the proposed collection of information is necessary for the proper performance of the functions of the agency, including whether the information will have practical utility; (b) the accuracy of the agency's estimate of the burden of the proposed collection of information, including the validity of the methodology and the assumptions used; (c) ways to enhance the quality, utility, and clarity of the information to be collected; and (d) ways to minimize the burden of the collection of information on those who respond, including the use of appropriate automated, electronic, mechanical, or other technology. Comments should be sent to the address in the preamble. All responses to this notice will be summarized and included in the request for Office of Management and Budget (OMB) approval. All comments will become a matter of public record.

Dated: November 27, 2002.
Caird E. Rexroad, Jr.,
Acting Associate Administrator.

[FR Doc. 02-32309 Filed 12-23-02; 8:45 am]

BILLING CODE 3410-03-P